DEPARTMENT OF EDUCATION

Applications for New Awards; Opportunity Scholarship Program

AGENCY: Office of Elementary and Secondary Education, Department of Education.

ACTION: Notice.

SUMMARY: The Department of Education (Department) is issuing a notice inviting applications for fiscal year (FY) 2020 for the District of Columbia Opportunity Scholarship Program (OSP), Catalog of Federal Domestic Assistance (CFDA) number 84.370A. This notice relates to the approved information collection under OMB control number 1855-0015.

Applications Available: February 13, 2020.

Deadline for Transmittal of Applications: March 30, 2020.

Deadline for Intergovernmental Review: May 28, 2020.

ADDRESSES: For the addresses for obtaining and submitting an application, please refer to our Common Instructions for Applicants to Department of Education Discretionary Grant Programs, published in the Federal Register on February 13, 2019 (84 FR 3768) and available at www.govinfo.gov/content/pkg/FR-2019-02-13/pdf/2019-02206.pdf.

FOR FURTHER INFORMATION CONTACT: Beth Yeh, U.S. Department of Education, 400 Maryland Avenue SW, Room 3E335, Washington, DC 20202-5960. Telephone: (202) 205-5798. Email: beth.yeh@ed.gov.

If you use a telecommunications device for the deaf (TDD) or a text telephone (TTY), call the Federal Relay Service (FRS), toll free, at 1-800-877-8339.

SUPPLEMENTARY INFORMATION:

Full Text of Announcement

I. Funding Opportunity Description

Purpose of Program: The purpose of the OSP is to provide low-income parents residing in the District of Columbia, particularly parents of students who attend an elementary school or secondary school identified as one of the lowest-performing schools under the District of Columbia's accountability system, with expanded opportunities for enrolling their children in private schools in the District of Columbia.

Background: The OSP was established in 2004 under the DC School Choice Incentive Act of 2003 (School Choice Incentive Act) (Title III of Division C of the Consolidated Appropriations Act, 2004; Pub. L. 108-199; 118 Stat. 126-188 Stat. 134 (2004)). In 2011, Congress authorized the OSP under the Scholarships for Opportunity and Results (SOAR) Act of 2011, Pub. L. 112-10, 125 Stat. 199-125 Stat. 212 (2011). In 2017, Congress reauthorized the OSP under the SOAR Act (Division C of Pub. L. 112-10, as amended by Pub. L. 115-31; DC Code 38-1853.01-.14).

For FY 2020, the Department will award one grant to an eligible entity to administer the OSP. The grant will be awarded in the form of a cooperative agreement between the Department and the grantee. An applicant is expected to explain in its application, among other things, how it would do the following: (1) Recruit and select eligible scholarship applicants in years that scholarships are awarded; (2) serve scholarship students and families in a timely manner; (3) identify and work with participating schools; (4) monitor compliance of participating schools with program and reporting requirements; (5) maintain reliable data regarding the operation of the program; and (6) ensure appropriate coordination with the other entities that conduct activities related to this program.

The Consolidated Appropriations Act, 2020, provides that up to $1,200,000 of the grant may be used for the combination of administrative expenses, parental assistance, and student academic assistance, notwithstanding the allowances specified in the SOAR Act. Conducting outreach to parents to raise awareness of the educational options available to their children is an important priority of this program and is consistent with the Secretary's Supplemental Priority 1—Empowering Families and Individuals to Choose a High-Quality Education that Meets Their Unique Needs.

Application Requirements: The following requirements are from section 3005(b) of the SOAR Act and apply to all applications submitted by eligible entities under this competition. Each entity's application must include a detailed description of—

(1) How the entity will address the priorities described in section 3006 of the SOAR Act;

(2) How the entity will ensure that if more eligible students seek admission in the program of the entity than the program can accommodate, eligible students are selected for admission through a random selection process which gives weight to the priorities described in section 3006 of the SOAR Act;

(3) How the entity will ensure that if more participating eligible students seek admission to a participating school than the school can accommodate, participating eligible students are selected for admission through a random selection process;

(4) How the entity will notify parents of eligible students of the expanded choice opportunities in order to allow the parents to make informed decisions;

(5) The activities that the entity will carry out to provide parents of eligible students with expanded choice opportunities through the awarding of scholarships under section 3007(a) of the SOAR Act;

(6) How the entity will determine the amount that will be provided to parents under section 3007(a)(2) of the SOAR Act for the payment of tuition, fees, and transportation expenses, if any;

(7) How the entity will seek out private elementary schools and secondary schools in District of Columbia to participate in the program;

(8) How the entity will ensure that each participating school will meet the reporting and other program requirements under the SOAR Act;

(9) How the entity will ensure that participating schools submit to site visits by the entity as determined to be necessary by the entity;

(10) How the entity will ensure that participating schools are financially responsible and will use the funds received under section 3007 of the SOAR Act effectively;

(11) How the entity will ensure the financial viability of participating schools in which 85 percent or more of the total number of students enrolled at the school are participating eligible students that receive and use an opportunity scholarship;

(12) How the entity will address the renewal of scholarships to participating eligible students, including continued eligibility;

(13) How the entity will ensure that a majority of its voting board members or governing organization are residents of District of Columbia;

(14) How that the entity will ensure that it will comply with all requests regarding any evaluation carried out under section 3009(a) of the SOAR Act; and

(15) How the eligible entity will ensure that it utilizes internal fiscal and quality controls and complies with applicable financial reporting requirements.

In addition to the statutory application requirements, we encourage applicants to include a description of (1) how they will provide information to parents on the Individuals with Disabilities Education Act (20 U.S.C. 1400 et seq.) provisions that do or do not apply when a student with a disability is moved from a public school to a private school by their parents and (2) if applicable, how they intend to spend funds reserved for administrative expenses, parental assistance and student academic assistance.

Definitions: The definitions for “Elementary school,” “Parent,” and “Secondary school” are from section 3013 of the SOAR Act. The definition for “nonprofit” is from 34 CFR 77.1(c).

Elementary school means an institutional day or residential school, including a public elementary charter school, that provides elementary education, as determined under District of Columbia law.

Nonprofit, as applied to an agency, organization, or institution, means that it is owned and operated by one or more corporations or associations whose net earnings do not benefit, and cannot lawfully benefit, any private shareholder or entity.

Parent includes a legal guardian or other person standing in loco parentis (such as a grandparent or stepparent with whom the child lives, or a person who is legally responsible for the child's welfare).

Secondary school means an institutional day or residential school, including a public secondary charter school, that provides secondary education, as determined under District of Columbia law, except that the term does not include any education beyond grade 12.

Program Authority: SOAR Act (Division C of Pub. L. 112-10, as amended by Pub. L. 115-31; DC Code 38-1853.01-.14).

Applicable Regulations: (a) The Education Department General Administrative Regulations in 34 CFR parts 75, 77, 79, 81, 82, 84, 97, 98, and 99. (b) The Office of Management and Budget Guidelines to Agencies on Government wide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474.

II. Award Information

Type of Award: Cooperative agreement.

Estimated Available Funds: $17,000,000.

Estimated Number of Awards: 1.

Note: The Department is not bound by any estimates in this notice.

Project Period: Up to 60 months.

III. Eligibility Information

1. Eligible Applicants: To be eligible for an OSP grant, an entity must be either a nonprofit organization or a consortium of nonprofit organizations.

2. Cost Sharing or Matching: This program does not require cost sharing or matching.

3. Subgrantees: A grantee under this competition may not award subgrants to entities to directly carry out project activities described in its application.

IV. Application and Submission Information

1. Application Submission Instructions: Applicants are required to follow the Common Instructions for Applicants to Department of Education Discretionary Grant Programs, published in the Federal Register on February 13, 2019 (84 FR 3768) and available at www.govinfo.gov/content/pkg/FR-2019-02-13/pdf/2019-02206.pdf, which contain requirements and information on how to submit an application.

2. Submission of Proprietary Information: Given the types of projects that may be proposed in applications for the OSP competition, your application may include business information that you consider proprietary. In 34 CFR 5.11 we define “business information” and describe the process we use in determining whether any of that information is proprietary and, thus, protected from disclosure under Exemption 4 of the Freedom of Information Act (5 U.S.C. 552, as amended).

Because we plan to make successful applications available to the public, you may wish to request confidentiality of business information.

Consistent with Executive Order 12600, please designate in your application any information that you believe is exempt from disclosure under Exemption 4. In the appropriate Appendix section of your application, under “Other Attachments Form,” please list the page number or numbers on which we can find this information. For additional information please see 34 CFR 5.11(c).

3. Intergovernmental Review: This competition is subject to Executive Order 12372 and the regulations in 34 CFR part 79. Information about Intergovernmental Review of Federal Programs under Executive Order 12372 is in the application package for this competition.

4. Funding Restrictions: We reference regulations outlining funding restrictions in the Applicable Regulations section of this notice.

5. Recommended Page Limit: The application narrative is where you, the applicant, address the selection criteria that reviewers use to evaluate your application. We recommend that you (1) limit the application narrative to no more than 50 pages and (2) use the following standards:

• A “page” is 8.5″ x 11″, on one side only, with 1” margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial.

V. Application Review Information

1. Selection Criteria: The selection criteria for this competition are from 34 CFR 75.210. The maximum score for all the selection criteria is 100 points. The maximum score for each criterion is indicated in parentheses. Each criterion also includes the factors that reviewers will consider in determining the extent to which an applicant meets the criterion. In addressing each criterion, applicants are encouraged to make explicit connections to relevant aspects of responses to other selection criteria.

(a) Quality of project services (20 points).

(1) The Secretary considers the quality of the services to be provided by the proposed project.

(2) In determining the quality of the services to be provided by the proposed project, the Secretary considers the quality and sufficiency of strategies for ensuring equal access and treatment for eligible project participants who are members of groups that have traditionally been underrepresented based on race, color, national origin, gender, age, or disability.

(3) In addition, the Secretary considers the extent to which the services to be provided by the proposed

project are appropriate to the needs of the intended recipients or beneficiaries of those services.

(b) Quality of project personnel (25 points).

(1) The Secretary considers the quality of the personnel who will carry out the proposed project.

(2) In determining the quality of project personnel, the Secretary considers the extent to which the applicant encourages applications for employment from persons who are members of groups that have traditionally been underrepresented based on race, color, national origin, gender, age, or disability.

(3) In addition, the Secretary considers:

(i) The qualifications, including relevant training and experience, of the project director or principal investigator.

(ii) The qualifications, including relevant training and experience, of key project personnel.

(c) Adequacy of resources (20 points).

(1) The Secretary considers the adequacy of resources for the proposed project.

(2) In determining the adequacy of resources for the proposed project, the Secretary considers:

(i) The adequacy of support, including facilities, equipment, supplies, and other resources, from the applicant organization or the lead applicant organization.

(ii) The extent to which the budget is adequate to support the proposed project.

(d) Quality of the management plan (35 points).

(1) The Secretary considers the quality of the management plan for the proposed project.

(2) In determining the quality of the management plan for the proposed project, the Secretary considers:

(i) The adequacy of the management plan to achieve the objectives of the proposed project on time and within budget, including clearly defined responsibilities, timelines, and milestones for accomplishing project tasks.

(ii) The adequacy of procedures for ensuring feedback and continuous improvement in the operation of the proposed project.

(iii) The adequacy of mechanisms for ensuring high-quality products and services from the proposed project.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive cooperative agreement award, the Secretary requires various assurances, including those applicable to Federal civil rights laws that prohibit discrimination in programs or activities receiving Federal financial assistance from the Department (34 CFR 100.4, 104.5, 106.4, 108.8, and 110.23).

3. Risk Assessment and Specific Conditions: Consistent with 2 CFR 200.205, before awarding grants under this competition the Department conducts a review of the risks posed by applicants. Under 2 CFR 3474.10, the Secretary may impose specific conditions and, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000), under 2 CFR 200.205(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

4. Performance Measures: The long-term performance indicator for this program is whether, at the end of the program, the student achievement gains of participating eligible students are greater than those of students in control or comparison groups. Data for the performance measure will be collected through the program evaluation.

5. Continuation Awards: In making a continuation award under 34 CFR 75.253, the Secretary considers, among other things: Whether a grantee has made substantial progress in achieving the goals and objectives of the project; whether the grantee has expended funds in a manner that is consistent with its approved application and budget; and, if the Secretary has established performance measurement requirements, the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: Individuals with disabilities can obtain this document and a copy of the application package in an accessible format (e.g., braille, large print, audiotape, or compact disc) on request to the program contact person listed under FOR FURTHER INFORMATION CONTACT.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Frank T. Brogan,
Assistant Secretary for Elementary and Secondary Education.

[FR Doc. 2020-02877 Filed 2-12-20; 8:45 am]

BILLING CODE 4000-01-P